DEPARTMENT OF ENERGY

Federal Energy Regulatory Commission

[Project No. 2146-113]

Alabama Power Company; Notice of Availability of Environmental Assessment

March 29, 2006.

In accordance with the National Environmental Policy Act of 1969 and the Federal Energy Regulatory Commission's regulations, the Office of Energy Projects has reviewed the application requesting the Commission's authorization for non-project use of project lands and waters for a water withdrawal at the Logan Martin development of the Coosa River Project. The proposed withdrawal would be located south of Ragland, Alabama. An environmental assessment (EA) has been prepared.

In the EA, the Commission's staff concludes that approval of the licensee's application would not produce any significant adverse environmental impacts, consequently the proposal would not constitute a major federal action significantly affecting the quality of the human environment.

A copy of the EA is attached to the Commission order titled “Approving Non-Project use of Project Lands and Waters, issued March 28, 2006, and is available at the Commission's Public Reference Room. A copy of the EA may also be viewed on the Commission's Web site at http://www.ferc.gov using the “elibrary” link. Enter the docket numbers (P-2146) in the docket field to access the document. For assistance, call (202) 502-8222 or (202) 502-8659 (for TTY).

Magalie R. Salas,
Secretary.

[FR Doc. E6-4881 Filed 4-4-06; 8:45 am]

BILLING CODE 6717-01-P